NUCLEAR REGULATORY COMMISSION

[Docket No. 50-346-LR; ASLBP No. 11-907-01-LR-BD01]

FirstEnergy Nuclear Operating Company; Establishment of Atomic Safety and Licensing Board

Pursuant to delegation by the Commission dated December 29, 1972, published in the Federal Register, 37 FR 28710 (1972), and the Commission's regulations, see, e.g., 10 CFR 2.104, 2.105, 2.300, 2.309, 2.313, 2.318, and 2.321, notice is hereby given that an Atomic Safety and Licensing Board (Board) is being established to preside over the following proceeding:

FirstEnergy Nuclear Operating Company

(Davis-Besse Nuclear Power Station, Unit 1)

This proceeding involves an application by FirstEnergy Nuclear Operating Company (FENOC) for a twenty-year renewal of operating license NPF-003, which authorizes FENOC to operate Davis-Besse Nuclear Power Station, Unit 1, located near Toledo, Ohio. The current operating license expires on April 22, 2017. In response to an October 25, 2010 Notice of Opportunity for Hearing published in the Federal Register (75 FR 65528), a petition to intervene was submitted by Beyond Nuclear, Citizens Environmental Alliance of Southwestern Ontario, Don't Waste Michigan, and Green Party of Ohio.

The Board is comprised of the following administrative judges:

William J. Froehlich, Chair, Atomic Safety and Licensing Board Panel, U.S. Nuclear Regulatory Commission, Washington, DC 20555-0001.

Dr. Nicholas G. Trikouros, Atomic Safety and Licensing Board Panel, U.S. Nuclear Regulatory Commission, Washington, DC 20555-0001.

Dr. William E. Kastenberg, Atomic Safety and Licensing Board Panel, U.S. Nuclear Regulatory Commission, Washington, DC 20555-0001.

All correspondence, documents, and other materials shall be filed in accordance with the NRC E-Filing rule, which the NRC promulgated in August 2007 (72 FR 49139).

Issued at Rockville, Maryland, this 13th day of January 2011.
E. Roy Hawkens,
Chief Administrative Judge, Atomic Safety and Licensing Board Panel.

[FR Doc. 2011-1139 Filed 1-19-11; 8:45 am]

BILLING CODE 7590-01-P